DEPARTMENT OF ENERGY

Federal Energy Regulatory Commission

Combined Notice of Filings

Take notice that the Commission has received the following Natural Gas Pipeline Rate and Refund Report filings:

Docket Numbers: RP20-623-000.

Applicants: Tennessee Gas Pipeline Company, L.L.C.

Description: § 4(d) Rate Filing: Volume No. 2—Elements SP327109 & NJR SP354349 to be effective 4/1/2020.

Filed Date: 3/2/20.

Accession Number: 20200302-5001.

Comments Due: 5 p.m. ET 3/16/20.

Docket Numbers: RP20-624-000.

Applicants: Golden Pass Pipeline LLC.

Description: Compliance filing Golden Pass PIpeline LLC Annual Retainage Report to be effective 4/1/2020.

Filed Date: 3/2/20.

Accession Number: 20200302-5004.

Comments Due: 5 p.m. ET 3/16/20.

Docket Numbers: RP20-625-000.

Applicants: Equitrans, L.P.

Description: § 4(d) Rate Filing: Negotiated Capacity Release Agreements—3/1/2020 to be effective 3/1/2020.

Filed Date: 3/2/20.

Accession Number: 20200302-5053.

Comments Due: 5 p.m. ET 3/16/20.

Docket Numbers: RP20-626-000.

Applicants: UGI Mt. Bethel Pipeline Company, LLC.

Description: Annual Retainage Adjustment Filing of UGI Mt. Bethel Pipeline Company, LLC under RP20-626.

Filed Date: 2/28/20.

Accession Number: 20200228-5381.

Comments Due: 5 p.m. ET 3/11/20.

Docket Numbers: RP20-628-000.

Applicants: Gulf South Pipeline Company, LLC.

Description: § 4(d) Rate Filing: Cap Rel Neg Agmts (Atlanta 8438 releases eff 3-1-2020) to be effective 3/1/2020.

Filed Date: 3/2/20.

Accession Number: 20200302-5174.

Comments Due: 5 p.m. ET 3/16/20.

Docket Numbers: RP20-629-000.

Applicants: Gulf South Pipeline Company, LLC.

Description: § 4(d) Rate Filing: Cap Rel Neg Rate Agmt (Constellation 52312 to Exelon 52345) to be effective 3/1/2020.

Filed Date: 3/2/20.

Accession Number: 20200302-5179.

Comments Due: 5 p.m. ET 3/16/20.

Docket Numbers: RP20-630-000.

Applicants: Gulf South Pipeline Company, LLC.

Description: § 4(d) Rate Filing: Non-conforming Agmt (TECO 52302) to be effective 4/1/2020.

Filed Date: 3/2/20.

Accession Number: 20200302-5181.

Comments Due: 5 p.m. ET 3/16/20.

Docket Numbers: RP20-632-000.

Applicants: Gulf South Pipeline Company, LLC.

Description: § 4(d) Rate Filing: Cap Rel Neg Rate Agmt (Calyx 51780 to BP 52120) to be effective 3/1/2020.

Filed Date: 3/2/20.

Accession Number: 20200302-5281.

Comments Due: 5 p.m. ET 3/16/20.

Docket Numbers: RP20-633-000.

Applicants: UGI Sunbury, LLC.

Description: § 4(d) Rate Filing: Annual Retainage Adjustment 2020 to be effective 4/1/2020.

Filed Date: 3/2/20.

Accession Number: 20200302-5284.

Comments Due: 5 p.m. ET 3/16/20.

Docket Numbers: RP20-634-000.

Applicants: UGI Sunbury, LLC.

Description: Compliance filing Cost and Revenue Study per CP15-525-000.

Filed Date: 3/2/20.

Accession Number: 20200302-5289.

Comments Due: 5 p.m. ET 3/16/20.

Docket Numbers: RP20-635-000.

Applicants: KO Transmission Company.

Description: § 4(d) Rate Filing: 2020 Transportation Retainage Adjustment to be effective 4/1/2020.

Filed Date: 3/2/20.

Accession Number: 20200302-5294.

Comments Due: 5 p.m. ET 3/16/20.

Docket Numbers: RP20-636-000.

Applicants: ANR Pipeline Company.

Description: § 4(d) Rate Filing: ANR Fuel Filing 2020 (Part 1) to be effective 4/1/2020.

Filed Date: 3/2/20.

Accession Number: 20200302-5316.

Comments Due: 5 p.m. ET 3/16/20.

Docket Numbers: RP20-637-000.

Applicants: Empire Pipeline, Inc.

Description: § 4(d) Rate Filing: Fuel Tracker (Empire Tracking Supply Storage Rates) to be effective 2/1/2020.

Filed Date: 3/2/20.

Accession Number: 20200302-5330.

Comments Due: 5 p.m. ET 3/16/20.

Docket Numbers: RP20-638-000.

Applicants: Enable Mississippi River Transmission, LLC.

Description: § 4(d) Rate Filing: Negotiated Rate Filing—WRB RP18-923 & RP20-131 Settlement to be effective 3/1/2020.

Filed Date: 3/2/20.

Accession Number: 20200302-5341.

Comments Due: 5 p.m. ET 3/16/20.

Docket Numbers: RP20-639-000.

Applicants: Southern Star Central Gas Pipeline, Inc.

Description: § 4(d) Rate Filing: Vol. 2—Negotiated Rate Agreements—Scout Energy Group & Conexus Energy to be effective 3/1/2020.

Filed Date: 3/2/20.

Accession Number: 20200302-5342.

Comments Due: 5 p.m. ET 3/16/20.

Docket Numbers: RP20-641-000.

Applicants: Black Hills Shoshone Pipeline, LLC

Description: Annual Adjustment of Lost and Unaccounted for Gas Percentage of Black Hills Shoshone Pipeline, LLC under RP20-641.

Filed Date: 3/2/20.

Accession Number: 20200302-5359.

Comments Due: 5 p.m. ET 3/16/20.

Docket Numbers: RP20-642-000.

Applicants: Vector Pipeline L.P.

Description: Annual Report of Operational Purchases and Sales of Vector Pipeline L.P. under RP20-642.

Filed Date: 3/2/20.

Accession Number: 20200302-5363.

Comments Due: 5 p.m. ET 3/16/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 3, 2020.
Nathaniel J. Davis, Sr.,
Deputy Secretary.

[FR Doc. 2020-04867 Filed 3-9-20; 8:45 am]

BILLING CODE 6717-01-P